ENVIRONMENTAL PROTECTION AGENCY

[FRL OP-OFA-003]

Environmental Impact Statements; Notice of Availability

Responsible Agency: Office of Federal Activities, General Information 202-564-5632 or https://www.epa.gov/nepa.

Weekly Receipt of Environmental Impact Statements (EIS)

Filed January 31, 2022 10 a.m. EST Through February 7, 2022 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20220013, Draft Supplement, USFS, NAT, Nationwide Aerial Application of Fire Retardant on National Forest System Land, Comment Period Ends: 03/29/2022, Contact: Laura Conway 406-802-4317

Amended Notice:

EIS No. 20210187, Draft, USFS, UT, Southern Monroe Mountain Allotments Livestock Grazing Authorization, Comment Period Ends: 02/22/2022, Contact: Jason Kling 435-896-1080. Revision to FR Notice Published 12/23/2021; Extending the Comment Period from 02/07/2022 to 02/22/2022.

EIS No. 20220003, Draft, BLM, UT, Pine Valley Water Supply Project, Comment Period Ends: 03/11/2022, Contact: Brooklynn Cox 435-865-3073. Revision to FR Notice Published 01/07/2022; Extending the Comment Period from 02/22/2022 to 03/11/2022.

Dated: February 7, 2022.
Cindy S. Barger,
Director, NEPA Compliance Division, Office of Federal Activities.

[FR Doc. 2022-02959 Filed 2-10-22; 8:45 am]

BILLING CODE 6560-50-P